DEPARTMENT OF HOMELAND SECURITY

Coast Guard

33 CFR Part 110

[CGD09-01-122]

RIN 2115-AA98

Special Anchorage Area: Henderson Harbor, NY

AGENCY: Coast Guard, DOT.

ACTION: Notice of docket closure.

SUMMARY: On January 2, 2002 and again on June 5, 2002, the Coast Guard published requests for comments on the expanded special anchorage area in Henderson Harbor, New York. The Coast Guard received 27 comments in response to these requests. Based upon the comments and in the interest of safe navigation, the Coast Guard has decided that no change will be made at this time to the Henderson Harbor Special Anchorage Area A in Henderson Harbor, Henderson, New York.

DATES: The docket for this rulemaking is closed as of October 10, 2003.

ADDRESSES: The Ninth Coast Guard District Marine Safety Office maintains the public docket for this rulemaking. This docket is available for inspection or copying at room 2069, Ninth Coast Guard District, between 9 a.m. and 2 p.m., Monday through Friday, except Federal holidays.

FOR FURTHER INFORMATION CONTACT: Commander Michael Gardiner, Chief, Marine Safety Compliance Operations Branch, Ninth Coast Guard District Marine Safety Office, 1240 E. Ninth Street, Cleveland, Ohio 44199-2060. The phone number is (216) 902-6056.

SUPPLEMENTARY INFORMATION:

Background

On March 7, 2000, the Coast Guard published a final rule in the Federal Register that increased the size of the Henderson Harbor Special Anchorage Area (a) (65 FR 11892). The rulemaking to enlarge that special anchorage area was due to declining water levels and the safety of navigation in relation to the lower water levels. The Coast Guard received 5 positive comments in response to the original Notice of Proposed Rulemaking.

Subsequently, the Coast Guard published two requests for comments on January 2, 2002 and again on June 5, 2002 [67 FR 17, 67 FR 38625]. As a result of the subsequent requests for comments, the Coast Guard received 15 negative and 12 positive comments. Virtually every positive comment was based upon a concern for vessel safety, primarily the safety of vessels due to low water levels.

The negative comments generally focused the concern with having vessels obstructing waterfront views, the economic impact of an expanded anchorage area, and the additional time it would take to transit the extension of 1000′. The concern for vessel safety is ultimately the most important consideration. Thus, while these latter comments are important, the Coast Guard is not persuaded at this time to make any changes in light of the concerns they raise.

The regulations governing special anchorage areas are found in 33 CFR 110.1. In particular, sound and light requirements are not applicable to certain vessels anchored in these areas established by the Coast Guard. The Coast Guard does not further regulate the particular use of a special anchorage area by local or state authorities.

In the special anchorage area established in Henderson Harbor, Henderson, New York, the Town Council has established mooring buoys and a fee-based system for the use of those mooring buoys. An enlargement of this special anchorage area by the Coast Guard did not impact what portion or how the Town Council wishes to utilize the special anchorage area. It only provided a larger area over which the Town Council may exercise their control.

Enlarging the special anchorage area did not require the Henderson Town Council to adopt new measures or change how they currently regulate usage of the special anchorage area. The two issues are separate and distinct. As such, the Coast Guard feels that in order to ensure the safety of vessels using that area, the larger anchorage area already established will be left in place.

As such, the Coast Guard is closing this docket. If future action is needed, the Coast Guard will open a rulemaking or issue a new request for comments.

Dated: October 14, 2003.
R.F. Silva,
Rear Admiral, U.S. Coast Guard, Commander, Ninth Coast Guard District.

[FR Doc. 04-1612 Filed 1-26-04; 8:45 am]

BILLING CODE 4910-15-P